DEPARTMENT OF COMMERCE

Census Bureau

Agency Information Collection Activities; Submission to the Office of Management and Budget (OMB) for Review and Approval; Comment Request; 2026 Government Units Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement, with change of the Government Units Survey, prior to the submission of the information collection request (ICR) to OMB for approval.

DATES: To ensure consideration, comments regarding this proposed information collection must be received on or before April 21, 2025.

ADDRESSES: Interested persons are invited to submit written comments by email to Thomas.J.Smith@census.gov. Please reference 2026 GUS in the subject line of your comments. You may also submit comments, identified by Docket Number USBC-2025-0001, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Joy Pierson, PSFCB Branch Chief, at 301-763-7196 or Joy.P.Pierson@census.gov and Mercera Silva, PSFCB Section Chief, at 301-763-8047 or Mercera.Silva@census.gov.

SUPPLEMENTARY INFORMATION:

I. Abstract

Title 13, Section 161, of the United States Code requires the Secretary of Commerce to conduct a Census of Governments (CoG) every five years, in years ending in “2” and “7”. Section 193 provides for the collection of preliminary and supplementary statistics as related to the main topics of the CoG. This information request covers the Government Units Survey (GUS). The Census Bureau will use information from the 2026 GUS for the Organizational component of the CoG and to update its universe of public sector entities prior to mailing the other CoG components. The 2026 GUS collection will be all electronic and canvas townships and special district governments. The estimated 30,000 local governments will each receive login information to complete the questionnaire online. The collection instrument asks respondents to verify or correct their organization's name and mailing address as well as indicate the organization's primary function(s).

The scope for 2026 GUS collections is scaled back in comparison to 2021 GUS collection operations. For greater efficiency, the 2026 GUS eliminates several questions asked for the 2021 GUS and continues only canvasing government units for which it is difficult to obtain this information via other methods, such as internet research. The Census Bureau uses multiple options for verifying information about in-scope units not mailed to in the 2026 GUS. One method is including these units in annual survey collections for the public sector. A second validation method is Census Bureau analysts request directory listings from state contacts, such as the state auditor's office or other relevant offices. State contacts send the Census Bureau current directory listings based on filing requirements local governments (units) must report to the state on a routine basis (e.g., quarterly, or annually). As a result, the Census Bureau has found directory listings to be reliable sources for obtaining current information for local governments in some states. A third validation option is Census Bureau analysts reviewing state legislation annually to identify new bills and repealed bills that provide up-to-date legislative changes impacting local government units.

The majority of 2026 GUS questions ask for a yes/no response to indicate whether a government unit is in operation and verify contact information accuracy. Other questions collect information about the government unit's function using drop-down menu selections.

II. Method of Collection

The 2026 GUS will use the Census Bureau's web instrument Centurion. Multiple modes for data collection are available. The main collection method is internet data collection with a mailed invitation, followed by email, mail, and telephone follow-ups. Respondents who either do not have internet access, or who encounter issues such as internet firewalls that prevent access to the secure website portal, may contact Census Bureau customer service operators to report via telephone as an alternative. Customer service operators are trained to collect a respondent's information via phone and key their responses directly into the secure GUS web instrument.

III. Data

OMB Control Number: 0607-0930.

Form Number(s): GUS-1, GUS-2.

Type of Review: Regular submission.

Affected Public: Townships and special district governments.

Estimated Number of Respondents: 30,000.

Estimated Time per Response: 7 minutes.

Estimated Total Annual Burden Hours: 3,500.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C., Sections 161 and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-02857 Filed 2-19-25; 8:45 am]

BILLING CODE 3510-07-P